DEPARTMENT OF ENERGY

Federal Energy Regulatory Commission

Notice of Application for Amendment of Exemption and Soliciting Comments, Motions To Intervene, and Protests

May 12, 2003.

Take notice that the following application has been filed with the Commission and is available for public inspection:

a. Application Type: Amendment of license to change project boundary.

b. Project No: 1417-126.

c. Date Filed: March 6, 2003, and supplemented on May 6, 2003.

d. Applicant: Central Nebraska Public Power and Irrigation District (Central).

e. Name of Project: Kingsley Dam Project.

f. Location: The project is located on the North Platte and Platte Rivers in Garden, Keith, Lincoln, Dawson, and Gosper Counties, Nebraska.

g. Filed Pursuant to: Federal Power Act, 16 U.S.C. 791a-825r.

h. Applicant Contact: Jeremiah Maher, Environmental Resources Manager, Central Nebraska Public Power and Irrigation District, 415 Lincoln St., P.O. Box 740, Holdrege, NE 68949-0740, (308) 995-8601.

i. FERC Contact: Any questions on this notice should be addressed to Mr. Robert Shaffer at (202) 502-8944, or e-mail address: robert.shaffer@ferc.gov.

j. Deadline for filing comments and or motions: June 13, 2003.

k. Description of Request: Central proposes to change the project boundary at Johnson Lake, which is located in Gosper and Dawson Counties, Nebraska. Central proposes to modify the project boundary by removing 101.7 acres and adding 12.1 acres, to assure the adequacy of lands for project's operational functions. Central states that it made the filing pursuant to the plan for reviewing the project's boundary, which is part of Central's Land and Shoreline Management Plan that was approved in an October 7, 2002, Commission Order.

l. Locations of the Application: A copy of the application is available for inspection and reproduction at the Commission's Public Reference Room, located at 888 First Street, NE., Room 2A, Washington, DC 20426, or by calling (202) 502-8371. This filing may also be viewed on the Commission's Web site at http://www.ferc.gov using the “FERRIS” link. Enter the docket number excluding the last three digits in the docket number field to access the document. For assistance, call 1-866-208-3676 or e-mail FERCOnlineSupport@ferc.gov. For TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of rules of practice and procedure, 18 CFR 385.210, .211, .214. In determining the appropriate action to take, the Commission will consider all protests or other comments filed, but only those who file a motion to intervene in accordance with the Commission's rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. All documents (original and eight copies) should be filed with: Magalie R. Salas, Secretary, Federal Energy Regulatory Commission, 888 First Street, NE., Washington, DC 20426. A copy of any motion to intervene must also be served upon each representative of the Applicant specified in the particular application.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. The Commission strongly encourages electronic filings. See 18 CFR 385.2001(a)(1)(iii) and the instructions on the Commission's Web site at http://www.ferc.gov under the “e-Filing” link.

Magalie R. Salas,
Secretary.

[FR Doc. 03-12327 Filed 5-15-03; 8:45 am]

BILLING CODE 6717-01-P